DEPARTMENT OF THE INTERIOR

Bureau of Indian Affairs

25 CFR Part 82

[201A2100DD/AAKC001030/A0A501010.999900 253G]

RIN 1076-AF51

Procedures for Federal Acknowledgment of Alaska Native Entities

AGENCY: Bureau of Indian Affairs, Interior.

ACTION: Proposed rule; correction and reopening of period for comments on the information collection.

SUMMARY: The Bureau of Indian Affairs published a proposed rule in the Federal Register of January 2, 2020, that contained errors in the Paperwork Reduction Act statement. This document provides a corrected Paperwork Reduction Act statement and reopens the comment period for comments on the information collection described in that statement.

DATES: Comments on the information collection, published on January 2, 2020 (85 FR 37), are due by May 21, 2020.

ADDRESSES: You may send comments on the information collection, identified by RIN number 1076-AF51 by any of the following methods:

• Federal eRulemaking Portal: http://www.regulations.gov. Follow the instructions for sending comments.

• Email: consultation@bia.gov. Include RIN number 1076-AF51 in the subject line of the message.

• Mail or Hand-Delivery/Courier: Office of Regulatory Affairs & Collaborative Action—Indian Affairs (RACA), U.S. Department of the Interior, 1849 C Street NW, Mail Stop 4660, Washington, DC 20240.

All submissions received must include the Regulatory Information Number (RIN) for this rulemaking (RIN 1076-AF51). All comments received will be posted without change to http://www.regulations.gov, including any personal information provided.

FOR FURTHER INFORMATION CONTACT: Elizabeth Appel, Director, Office of Regulatory Affairs & Collaborative Action, (202) 273-4680; elizabeth.appel@bia.gov.

SUPPLEMENTARY INFORMATION:

Correction

In the Federal Register of January 2, 2020, in FR Doc. 2019-27998, on page 45, in the third column:

• Replace “we are seeking to revise this information collection” with “we are seeking to renew and revise this information collection”;

• Replace “14,360 annual burden hours” with “1,436 annual burden hours”; and

• Replace “Estimated Total Annual Non-Hour Cost: $2,100,000” with “Estimated Total Annual Non-Hour Cost: $4,200,000”.

We are restating the entire Paperwork Reduction Act statement (which was provided in Section V.J. of the preamble to the proposed rule) here for the convenience of anyone who wishes to comment on the information collection.

J. Paperwork Reduction Act

OMB Control No. 1076-0104 currently authorizes the collections of information related to petitions for Federal acknowledgment under the Indian Reorganization Act (IRA) contained in 25 CFR part 83, with an expiration of October 31, 2021. With this rulemaking, we are seeking to renew and revise this information collection to include collections of information related to petitions for Federal acknowledgment under the Alaska IRA and 25 CFR part 82. The current authorization totals an estimated 1,436 annual burden hours. This rule change would require a revision to an approved information collection under the Paperwork Reduction Act (PRA), 44 U.S.C. 3501 et seq., for which the Department is requesting OMB approval.

OMB Control Number: 1076-0104.

Title: Federal Acknowledgment as an Indian Tribe, 25 CFR 82 & 83.

Brief Description of Collection: This information collection requires entities seeking Federal recognition as an Indian Tribe to collect and provide information in a documented petition evidencing that the entities meet the criteria set out in the rule.

Type of Review: Revision of currently approved collection.

Respondents: Entities petitioning for Federal acknowledgment.

Number of Respondents: 2 on average (each year).

Number of Responses: 2 on average (each year).

Frequency of Response: On occasion.

Estimated Time per Response: (See table below).

Estimated Total Annual Hour Burden: 2,872 hours.

Estimated Total Annual Non-Hour Cost: $4,200,000.

OMB Control No. 1076-0104 currently authorizes the collections of information contained in 25 CFR part 83. If this proposed rule is finalized, DOI estimates that the annual burden hours for respondents (entities petitioning for Federal acknowledgment) will increase by approximately 1,436 hours, for a total of 2,872 hours.

Tara Sweeney,
Assistant Secretary—Indian Affairs.

[FR Doc. 2020-09100 Filed 5-5-20; 8:45 am]

BILLING CODE 4337-15-P